DEPARTMENT OF COMMERCE

International Trade Administration

[A-475-835]

Finished Carbon Steel Flanges From Italy: Final Results of Antidumping Duty Administrative Review; 2017-2018

AGENCY: Enforcement and Compliance, International Trade Administration, Department of Commerce.

SUMMARY: The Department of Commerce (Commerce) finds that sales of finished carbon steel flanges (steel flanges) from Italy were made at less than normal value during the period of review (POR) February 8, 2017 through July 31, 2018.

DATES: Applicable April 20, 2020.

FOR FURTHER INFORMATION CONTACT: Preston N. Cox, AD/CVD Operations, Office VI, Enforcement and Compliance, International Trade Administration, U.S. Department of Commerce, 1401 Constitution Avenue NW, Washington, DC 20230; telephone: (202) 482-5041.

SUPPLEMENTARY INFORMATION:

Background

On October 17, 2019, Commerce published the Preliminary Results of the 2017-2018 antidumping duty administrative review of steel flanges from Italy and invited interested parties to comment.¹ This administrative review covers 27 companies. The mandatory respondents are Forgital Italy S.p.A. (Forgital) and ASFO S.p.A. (ASFO). On November 18, 2019, we received a timely filed case brief from Forgital,² and on November 25, 2019, we received a timely filed rebuttal brief from Weldbend Corporation and Boltex Manufacturing Co., L.P. (collectively, the petitioners).³ On February 10, 2020, Commerce extended the final results of this review to no later than April 14, 2020.⁴

¹ See Finished Carbon Steel Flanges From Italy: Preliminary Results of Antidumping Duty Administrative Review; 2017-2018, 84 FR 55551 (October 17, 2019) (Preliminary Results), and accompanying Preliminary Decision Memorandum.

² See Forgital's Letter, “Finished Carbon Steel Flanges From Italy: Case Brief of Forgital Italy S.p.A.,” dated November 18, 2019.

³ See Petitioners' Letter, “Finished Carbon Steel Flanges from Italy: Rebuttal Brief of Weldbend Corporation and Boltex Manufacturing Co., L.P,” dated November 25, 2019.

⁴ See Memorandum, “Finished Carbon Steel Flanges From Italy: Extension of Deadline for Final Results of Antidumping Duty Administrative Review; 2017-2018,” dated February 10, 2020.

For a further discussion of events subsequent to the Preliminary Results, see the Issues and Decision Memorandum.⁵ Commerce conducted this administrative review in accordance with section 751 of the Tariff Act of 1930, as amended (the Act).

⁵ See Memorandum, “Issues and Decision Memorandum for the Final Results of the Administrative Review of the Antidumping Duty Order on Finished Carbon Steel Flanges From Italy; 2017-2018,” dated concurrently with, and hereby adopted by, this notice (Issues and Decision Memorandum).

Scope of the Order

The products covered by the scope of the order are steel flanges from Italy. For a complete description of the scope of the order, see the Issues and Decision Memorandum.⁶

⁶ See Issues and Decision Memorandum at 2.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/index.html. The signed Issues and Decision Memorandum and the electronic version of the Issues and Decision Memorandum are identical in content.

Application of Adverse Facts Available

For these final results, pursuant to section 776(a) of the Act, we continue to rely upon facts otherwise available to assign estimated weighted-average dumping margins to the respondents selected for individual examination in this review because both Forgital and ASFO withheld necessary information that was requested by Commerce, thereby significantly impeding the conduct of the review. Further, we continue to find that both ASFO and Forgital failed to cooperate by not acting to the best of their abilities to comply with requests for information. Therefore, we continue to apply an adverse inference in selecting among the facts available (AFA) to the respondents, in accordance with section 776(b) of the Act.

Rate for AFA and Non-Selected Companies

For these final results, we continue to assign both Forgital and ASFO the AFA rate selected in the less-than-fair-value investigation.⁷ Additionally, in accordance with the U.S. Court of Appeals for the Federal Circuit's decision in Albemarle Corp. v. United States,⁸ we are applying to the non-selected companies a rate based on the simple average of the individual rates applied to ASFO and Forgital in this administrative review.⁹ This is the only rate determined in this review for individual respondents and, thus, should be applied to the 25 non-selected companies under section 735(c)(5)(B) of the Act. For a detailed discussion, see the Preliminary Decision Memorandum.

⁷ See Finished Carbon Steel Flanges from India and Italy: Antidumping Duty Orders, 82 FR 40136 (August 24, 2017) (Order).

⁸ See Albemarle Corp. v. United States, 821 F.3d 1345 (Fed. Cir. 2016).

⁹ See, e.g., Certain Small Diameter Carbon and Alloy Seamless Standard, Line, and Pressure Pipe (Under 4\1/2\ Inches) from Japan: Final Results of Antidumping Duty Administrative Review and Final Determination of No Shipments; 2014-2015, 81 FR 80640, 80641 (November 16, 2016).

Final Results of the Administrative Review

As a result of this review, Commerce determines that the following weighted-average dumping margins exist for the POR:

Producer/exporter | Weighted- average dumping margin (percent)
ASFO S.p.A | 204.53
Forgital Italy S.p.A | 204.53
ASFO S.p.A.—FOMAS Group | 204.53
Assotherm srl | 204.53
Bifrangi S.p.A | 204.53
CAT Carpenteria Metallica srl | 204.53
Costruzione Ricambi Machine Industriali | 204.53
Filmag Italia S.r.l | 204.53
FOC Ciscato S.p.Ar | 204.53
FOMAS | 204.53
Forgia Di Bollate S.p.A | 204.53
Forgiatura A. Vienna diAntonio Vienna | 204.53
Franchini Acciai S.p.A | 204.53
Galperti Forged Products | 204.53
Inox Laghi S.r.l | 204.53
KIASMA SRL | 204.53
Iml Industria Meccanica Ligure | 204.53
Martin Valmore srl | 204.53
M.E.G.A. S.p.A | 204.53
Metalfar Prodotti Industriali, S.p.A | 204.53
Officine Ambrogio Melesi & C. S.R.L | 204.53
Officine di Cortabbio s.r.l | 204.53
OFFICINE MECCANICHE CIOCCA S.p.A | 204.53
Office SANTAFEDE | 204.53
Siderforgerossi Group S.p.A | 204.53
UNIGEN Steel Engineering | 204.53
VALVITALIA S.p.A | 204.53

Assessment Rates

Commerce has determined, and U.S. Customs and Border Protections (CBP) shall assess, antidumping duties on all appropriate entries of subject merchandise in accordance with these final results of review.¹⁰ Thus, we will instruct CBP to apply an ad valorem assessment rate of 204.53 percent to all entries of subject merchandise during the period of review which were produced and/or exported by ASFO, Forgital and the aforementioned companies which were not selected for individual examination. We intend to issue liquidation instructions to CBP 15 days after publication of the final results of this review.

¹⁰ See 19 CFR 351.212(b)(1) and section 751(a)(2)(C) of the Act.

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for ASFO, Forgital and the other companies listed above will be equal to the weighted-average dumping margin established in the final results of this administrative review; (2) for previously reviewed or investigated companies not listed above, the cash deposit rate will continue to be the company-specific rate published for the most recently completed segment of this proceeding in which the company participated; (3) if the exporter is not a firm covered in this review, a prior review, or in the original investigation, but the producer is, then the cash deposit rate will be the rate established for the most recently completed segment of this proceeding for the producer of the merchandise; and (4) the cash deposit rate for all other producers or exporters will continue to be the all-others rate of 79.17 percent, the rate established in the less-than-fair-value investigation.¹¹ These cash deposit requirements, when imposed, shall remain in effect until further notice.

¹¹ See Order, 82 FR at 40138.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act and 19 CFR 351.221(b)(5).

Dated: April 14, 2020.
Jeffrey I. Kessler,
Assistant Secretary for Enforcement and Compliance.

Appendix

List of Topics Discussed in the Issues and Decision Memorandum

I. Summary

II. Background

III. Scope of the Order

IV. Discussion of the Issues

1. Whether To Continue To Apply Total Adverse Facts Available to Forgital

V. Recommendation

[FR Doc. 2020-08301 Filed 4-17-20; 8:45 am]

BILLING CODE 3510-DS-P